DEPARTMENT OF AGRICULTURE

Food and Nutrition Service

Agency Information Collection Activities: Proposed Collection; Comment Request—WIC National Universal Product Code (NUPC) Database

AGENCY: Food and Nutrition Service, USDA.

ACTION: Notice.

SUMMARY: In accordance with the Paperwork Reduction Act of 1995, this notice invites the general public, and other public agencies to comment on a proposed information collection. This notice announces the Food and Nutrition Service's (FNS) intention to request Office of Management and Budget approval of the voluntary information collection process to be used in the National Universal Product Code (NUPC) database, an electronic national repository of Special Supplemental Nutrition Program for Women, Infants, and Children Program (WIC) eligible foods that have been authorized or approved by WIC State agencies. Section 203(e)(12) of the Child Nutrition and WIC Reauthorization Act of 2004 requires the Secretary to establish an NUPC database for use by State agencies in carrying out the program.

DATES: Written comments on this notice must be received on or before November 26, 2007.

ADDRESSES: Comments may be sent to Patricia N. Daniels, Director, Supplemental Food Programs Division, Food and Nutrition Service, U.S. Department of Agriculture, 3101 Park Center Drive, Alexandria, VA 22302. Pursuant to the Paperwork Reduction Act of 1995 (44 U.S.C. 3507), comments are invited on (a) Whether the proposed collection of information is necessary for the proper performance of the functions of the agency, including whether the information will have practical utility; (b) the accuracy of the agency's estimate of the burden of the proposed collection of information, including the validity of the methodology and assumptions used; (c) ways to enhance the quality, utility and clarity of the information collected; and (d) ways to minimize the burden of the collection of information on those who are to respond, including through the use of appropriate automated, electronic, mechanical, or other technological collection techniques or other forms of information technology.

All written comments will be open for public inspection at the office of the Food and Nutrition Service during regular business hours (8:30 a.m. to 5 p.m., Monday through Friday) at 3101 Park Center Drive, Alexandria, Virginia 22302, Room 520.

All responses to this notice will be summarized and included in the request for OMB approval, and will become a matter of public record.

FOR FURTHER INFORMATION CONTACT: Requests for additional information or copies of this information collection should be directed to Patty Davis, (703) 305-2746.

SUPPLEMENTARY INFORMATION: Title: The WIC National Universal Product Code (NUPC) database.

OMB Number: To be assigned.

Expiration Date: To be determined.

Type of Request: New information collection.

Abstract: The mandated NUPC database will serve as a repository of Universal Product Codes pertaining to WIC Program foods. The database will be accessible on a voluntary basis to both food manufacturers and WIC Program State agencies. It will provide a standardized format for manufacturers to electronically submit product information for consideration for inclusion in WIC State agency authorized food lists. The system will automatically screen products entered by manufacturers for compliance with minimum Federal regulatory requirements. State agencies will be able to review and select for approval those products that have successfully been screened. Each WIC State agency's list of approved foods will be available via the NUPC database. The database will initially be populated with product information that is available from the WIC State agencies currently operating an Electronic Benefits Transfer system. We assume this will provide product information for the majority of foods that are currently authorized by WIC State agencies.

Comments are being solicited on whether the NUPC will decrease the burden on WIC State agencies and manufacturers by providing a uniform data source for submitting products for WIC review and eligibility. The burden hours associated with this collection burden will be for updates to existing products and the addition of new products as they become available and authorized. We estimate that for this burden reporting period, 1,000 manufacturers will spend a total of 125 burden hours to report new product information and update existing product information when necessary; 20 State agencies (40 users) will spend a total of 5 burden hours to report new product information, update existing product information, and, upload/download products to their State agency approved list, and 2 Federal users will spend a total of ½ hour to report new infant formula product information and update formula product information when necessary. The total number of burden hours for this reporting period is 130.50 hours.

Affected Public: Manufacturers, WIC State agencies, and Federal government.

Estimated Number of Respondents: 1,022.

Number of Responses per Respondent: 2.

Estimated Total Annual Responses: 2,044.

Hours per Response: 0.063.

Estimated Total Annual Burden: 131.

Dated: September 12, 2007.
Roberto Salazar,
Administrator, Food and Nutrition Service.

[FR Doc. E7-19050 Filed 9-26-07; 8:45 am]

BILLING CODE 3410-30-P